NATIONAL SCIENCE FOUNDATION

Notice of permit applications received under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by March 14, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application: 2012-015

1. Applicant: Laurie Connell, School of Marine Sciences, University of Maine, 5735 Hitchner Hall, Orono, ME 04469.

Activity for Which Permit Is Requested

Take and Import into the U.S.A. The applicant plans to salvage feathers and bones from dead seabird carcasses. The samples will be decontaminated and cleaned prior to shipment back to the home institution. The samples are to be used for K-12 educational outreach activities. In general, the bird parts will be an example of adaptation to be shown in conjunction with local (North American) bird parts.

Location

McMurdo Sound region, Antarctica.

Dates

October 1, 2012 to September 30, 2015.

Nadene G. Kennedy,
Permit Officer, Office of Polar Programs.

[FR Doc. 2012-3204 Filed 2-10-12; 8:45 am]

BILLING CODE 7555-01-P